DEPARTMENT OF JUSTICE

Immigration and Naturalization Service

8 CFR Parts 103 and 214

[INS 1946-98]

RIN 1115-AF29

Delegation of the Adjudication of Certain Temporary Agricultural Worker (H-2A) Petitions, Appellate and Revocation Authority for Those Petitions to the Secretary of Labor

AGENCY: Immigration and Naturalization Service, Justice.

ACTION: Final rule; delay of effective date.

SUMMARY: The Immigration and Naturalization Service (Service) is delaying the effective date of a final rule previously published in the Federal Register on July 13, 2000, at 65 FR 43528-43534 which delegated the adjudication of certain petitions for agricultural workers (H-2A) to the United States Department of Labor (DOL).

DATES: The effective date for the regulation published on July 13, 2000, at 65 FR 43528-43534 amending 8 CFR parts 103 and 214 is delayed from November 13, 2000, until October 1, 2001.

FOR FURTHER INFORMATION CONTACT: John W. Brown, Adjudications Officer, Benefits Division, Immigration and Naturalization Service, 425 I Street NW., Room 3214, Washington, DC 20536, telephone (202) 514-3228.

SUPPLEMENTARY INFORMATION: On July 13, 2000, the Service published a final rule in the Federal Register at 65 FR 43528-43534 delegating the authority to adjudicate certain H-2A petitions to the DOL. The final rule, which amended 8 CFR parts 103 and 214, was to take effect on November 13, 2000. The delay in the effective date of the final rule will afford the public as much opportunity as possible to become familiar with the new procedures in the issuance of temporary employment of nonimmigrant aliens in agriculture in the United States.

Dated: November 7, 2000.
Doris Meissner,
Commissioner, Immigration and Naturalization Service.

[FR Doc. 00-29008 Filed 11-9-00; 8:45 am]

BILLING CODE 4410-01-M